FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011409-009.

Title: Transpacific Carrier Services, Inc. Agreement.

Parties:

Westbound Transpacific Stabilization Agreement,

Transpacific Space Utilization Agreement,

Asia North America Eastbound Rate Agreement,

Transpacific Stabilization Agreement and their constituent member lines:

American President Lines, Ltd.;

APL Co. Pte Ltd.;

Evergreen Marine Corporation;

Hanjin Shipping Co., Ltd.;

Hapag-Lloyd Container Linie GmbH;

Hyundai Merchant Marine Co., Ltd.;

Kawasaki Kisen Kaisha, Ltd.;

A.P. Moller-Maersk A/S;

Mitsui O.S.K. Lines, Ltd.;

Nippon Yusen Kaisha, Ltd.;

Orient Overseas Container Line Limited;

P&O Nedlloyd B.V.;

P&O Nedlloyd Limited;

Yang Ming Marine Transport Corp.;

COSCO Container Lines Co., Ltd.;

CMA CGM, S.A.; and

China Shipping Container Lines Co., Ltd.

Synopsis: The amendment updates the agreement language as well as several member lines' corporate names.

Agreement No.: 011702-002.

Title: Hapag-Lloyd/Lykes Space Charter Agreement.

Parties:

Hapag-Lloyd Container Linie GmbH and

Lykes Lines Limited LLC.

Synopsis: The amendment adds Malta to the geographic scope of the agreement. The parties request expedited review.

Agreement No.: 011839-001.

Title: Med-Gulf Space Charter Agreement.

Parties:

Lykes Lines Limited LLC,

Compania Chilena de Navegacion Interoceanica, and

Compania Sud Americana de Vapores S.A.

Synopsis: The amendment adds Malta to the geographic scope of the agreement. The parties request expedited review.

Agreement No.: 011870.

Title: Indian Subcontinent Discussion Agreement.

Parties:

Evergreen Marine Corp. (Taiwan) Ltd.,

Hapag-Lloyd Container Linie GmbH,

Nippon Yusen Kaisha,

P&O Nedlloyd Limited, and

P&O Nedlloyd B.V.

Synopsis: The agreement authorizes the parties to exchange information and discuss and reach voluntary agreement on variety of commercial issues in the trade from ports and points in India, Pakistan, Bangladesh, and Sri Lanka to all ports and points in the United States.

Agreement No.: 201155

Title: Los Angeles/Long Beach Regional Goods Movement Efficiency Team Agreement.

Parties:

Port of Los Angeles,

Port of Long Beach,

P&O Nedlloyd Limited,

Mitsui O.S.K. Lines, and

Pasha Stevedoring & Terminals.

Synopsis: The proposed agreement would authorize the parties to confer, discuss, exchange information, and make recommendations with respect to rates, charges, practices, legislation, regulations, terminal operations, and port administration on matters concerning the establishment of extended gate programs, night-time terminal operations, and rail utilization for the ports of Los Angeles and Long Beach. The parties request expedited review.

Dated: March 5, 2004.
By Order of the Federal Maritime Commission.
Bryant L. VanBrakle,
Secretary.

[FR Doc. 04-5387 Filed 3-9-04; 8:45 am]

BILLING CODE 6730-01-P